DEPARTMENT OF JUSTICE

Notice of Lodging of Proposed Consent Decree Under the Comprehensive Environmental Response, Compensation, and Liability Act

On January 6, 2017, the Department of Justice lodged a proposed Consent Decree with the United States District Court for the District of Maine in the lawsuit entitled United States and State of Maine v. Smith Cove Preservation Trust, Civil Action No. 1:17-CV-00009-JDL

In this action, the United States, on behalf of the U.S. Environmental Protection Agency (“EPA”), sought injunctive relief for remedial cleanup and recovery of response costs against Smith Cove Preservation Trust (“Settling Defendant”), the current owner of the approximately 120-acre former Callahan Mine property at the Callahan Mine Superfund Site in Brooksville, Maine (“Site”). The complaint seeks relief under to Sections 106 and 107 of the Comprehensive Environmental Response, Compensation, and Liability Act (“CERCLA”), 42 U.S.C. 9606 and 9607. The State of Maine (“Maine”) has asserted parallel claims under CERCLA and related State provisions and is a co-plaintiff to the proposed Consent Decree.

Under the proposed Consent Decree, Settling Defendant will provide in-kind services (permission for EPA and the Maine Department of Environmental Protection to use “Borrow Material” located within Settling Defendant's property for use in implementing response actions at the Site), access, and institutional controls, all of which would be valuable for the environmental response at the Site, based on an analysis of Settling Defendant's ability to pay. In exchange, Settling Defendant will receive a covenant not to sue under Sections 106 and 107 of CERCLA for remedial cleanup and response costs relating to the Site, subject to certain reservations of rights.

The publication of this notice opens a period for public comment on the Consent Decree. Comments should be addressed to the Assistant Attorney General, Environment and Natural Resources Division, and should refer to United States and State of Maine v. Smith Cove Preservation Trust, D.J. Ref. No. 90-11-3-09953. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $14.75 (25 cents per page reproduction cost) payable to the United States Treasury. For a paper copy without the exhibits, the cost is $9.00.

Robert E. Maher Jr.,
Assistant Section Chief, Environmental Enforcement Section, Environment and Natural Resources Division.

[FR Doc. 2017-00489 Filed 1-11-17; 8:45 am]

BILLING CODE 4410-15-P